DEPARTMENT OF HEALTH AND HUMAN SERVICES

Centers for Medicare & Medicaid Services

[Document Identifier: CMS-10169]

Agency Information Collection Activities: Proposed Collection; Comment Request

Agency: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New collection; Title of Information Collection: Request for Bids (RFB) for Durable Medical Equipment, Prosthetics, Orthotics, and Supplies (DMEPOS) Competitive Bidding Program; Use: The Centers for Medicare and Medicaid Services (CMS) will conduct competitive bidding programs in which certain suppliers will be awarded contracts to provide certain DMEPOS items to Medicare beneficiaries. Competitive bidding provides a way to harness marketplace dynamics to create incentives for suppliers to provide quality items and services in an efficient manner and at a reasonable cost.

The objectives of competitive bidding include:

(1) To implement competitive bidding programs for certain covered items of DMEPOS and associated services in select areas;

(2) To assure beneficiary access to quality DMEPOS as a result of the program;

(3) To reduce the amount Medicare pays for DMEPOS and create a payment structure under competitive bidding that is more reflective of a competitive market;

(4) To limit the financial burden on beneficiaries by reducing their out-of-pocket expenses for DMEPOS they obtain through the program; and,

(5) To contract with suppliers who conduct business in a manner that is beneficial for the program and Medicare beneficiaries.

Contract suppliers will be selected from the suppliers that have the lowest bids and that meet all relevant program requirements. Suppliers bidding above the winning price are to be excluded from the Medicare market; however, multiple winners must be awarded in each site. The forms associated with this collection of information will collect all of the relevant information needed for processing bids.; Form Number: CMS-10169 (OMB#: 0938-NEW); Frequency: Reporting—Every three years; Affected Public: Business or other for-profit, not-for-profit institutions, and the Federal government; Number of Respondents: 16,545; Total Annual Responses: 16,545; Total Annual Hours: 1,158,150.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on July 5, 2006.

CMS, Office of Strategic Operations and Regulatory Affairs, Division of Regulations Development—B, Attention: William N. Parham, III, Room C4-26-05, 7500 Security Boulevard, Baltimore, Maryland 21244-1850.

Dated: April 28, 2006.
Michelle Shortt,
Director, Regulations Development Group, Office of Strategic Operations and Regulatory Affairs.

[FR Doc. E6-6808 Filed 5-4-06; 8:45 am]

BILLING CODE 4120-01-P